DEPARTMENT OF COMMERCE

National Oceanic and Atmospheric Administration

[I.D. 032602F]

Gulf of Mexico Fishery Management Council; Public Meeting

AGENCY: National Marine Fisheries Service (NMFS), National Oceanic and Atmospheric Administration (NOAA), Commerce.

ACTION: Notice of public meeting.

SUMMARY: The Gulf of Mexico Fishery Management Council (Council) will convene public meetings to discuss the content of a Programmatic Environmental Impact Statement (PEIS) for the Council’s Generic Amendment for Essential Fish Habitat (EFH) in the Gulf of Mexico and potential alternatives.

DATES: The meetings will be held on Tuesday April 16, 2002 in Silver Spring, MD, and Wednesday, April 17, 2002 in Kenner, LA, from 9 a.m. to 3 p.m.

ADDRESSES: The meeting on April 16, 2002 will be held at the Holiday Inn, 8777 Georgia Avenue (Route 97), Silver Spring, MD; telephone: 301-589-0800. The meeting on April 17, 2002 will be held at the New Orleans Airport Hilton, 901 Airline Drive, Kenner, LA; telephone: 504-469-5000.

Council address: Gulf of Mexico Fishery Management Council, 3018 U.S. Highway 301 North, Suite 1000, Tampa, FL 33619.

FOR FURTHER INFORMATION CONTACT: Heidi Lovett, MRAG Americas (Contractor), 110 South Hoover Blvd, Suite 212, Tampa, FL 33609; telephone: 813-639-9519; email: heidilovett@compuserve.com.

SUPPLEMENTARY INFORMATION: The meetings will begin with a focus group workshop of interested participants that will be held from 9 a.m. to 12 noon, to discuss the PEIS for the Council’s Generic Amendment for EFH in the Gulf of Mexico and to discuss structural components and potential alternatives. The goal is to get input from various stakeholders early in this process. A public comment session will be scheduled from 1 p.m. to 3 p.m. These meetings are being coordinated by the Council’s Consultant (MRAG Americas) that is developing the PEIS. These will not be the only workshops scheduled; other opportunities for public and stakeholders involvement exist through the PEIS development process and will be noticed accordingly. Interested participants/attendees should contact Heidi Lovett.

A copy of the agenda and related materials can be obtained by calling the Council office at 813-228-2815.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

These meetings are physically accessible to people with disabilities. Requests for sign language interpretation or other auxiliary aids should be directed to Anne Alford at the Council (see ADDRESSES) by April 9, 2002.

Dated: March 27, 2002.
Theophilus R. Brainerd,
Acting Director, Office of Sustainable Fisheries, National Marine Fisheries Service.

[FR Doc. 02-7932 Filed 4-1-02; 8:45 am]

BILLING CODE 3510-22-S